DEPARTMENT OF ENERGY

Federal Energy Regulatory Commission

Combined Notice of Filings

Take notice that the Commission has received the following Natural Gas Pipeline Rate and Refund Report filings:

Filings Instituting Proceedings

Docket Numbers: PR24-74-000.

Applicants: Columbia Gas of Ohio, Inc.

Description: 284.123 Rate Filing: COH Rates effective April 30 2024 to be effective 4/30/2024.

Filed Date: 6/4/24.

Accession Number: 20240604-5239.

Comment Date: 5 p.m. ET 6/25/24.

Docket Numbers: PR24-75-000.

Applicants: Black Hills Wyoming Gas, LLC.

Description: 284.123 Rate Filing: Black Hills Wyoming Gas Revised SOC Rate Filing to be effective 2/1/2024.

Filed Date: 6/5/24.

Accession Number: 20240605-5201.

Comment Date: 5 p.m. ET 6/26/24.

Docket Numbers: RP24-825-000.

Applicants: Honeoye Storage Corporation.

Description: Petition for Approval of Settlement of Honeoye Storage Corporation.

Filed Date: 6/4/24.

Accession Number: 20240604-5260.

Comment Date: 5 p.m. ET 6/17/24.

Docket Numbers: RP24-826-000.

Applicants: Transcontinental Gas Pipe Line Company, LLC.

Description: 4(d) Rate Filing: Limited Section 4 Rate Filing—Eliminate Amortization of Regulatory Liability to be effective 8/1/2024.

Filed Date: 6/5/24.

Accession Number: 20240605-5163.

Comment Date: 5 p.m. ET 6/17/24.

Docket Numbers: RP24-827-000.

Applicants: Algonquin Gas Transmission, LLC.

Description: 4(d) Rate Filing: Negotiated Rates—Eversource to Emera Energy eff 6-6-24 to be effective 6/6/2024.

Filed Date: 6/6/24.

Accession Number: 20240606-5034.

Comment Date: 5 p.m. ET 6/18/24.

Docket Numbers: RP24-828-000.

Applicants: Nautilus Pipeline Company, L.L.C.

Description: 4(d) Rate Filing: Negotiated Rates—Anadarko US Offshore to be effective 6/1/2024.

Filed Date: 6/6/24.

Accession Number: 20240606-5069.

Comment Date: 5 p.m. ET 6/18/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-744-002.

Applicants: Southern Natural Gas Company, L.L.C.

Description: Compliance filing: Compliance RP24-744 SNG Rate Case—2024 (PAL Tariff) to be effective 6/1/2024.

Filed Date: 6/5/24.

Accession Number: 20240605-5053.

Comment Date: 5 p.m. ET 6/17/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 6, 2024.
Debbie-Anne A. Reese,
Acting Secretary.

[FR Doc. 2024-12870 Filed 6-11-24; 8:45 am]

BILLING CODE 6717-01-P